DEPARTMENT OF HEALTH AND HUMAN SERVICES

Administration for Children and Families

Proposed Information Collection Activity; Title V State Sexual Risk Avoidance Education (Office of Management and Budget #0970-0551)

AGENCY: Family and Youth Services Bureau, Administration for Children and Families, United States Department of Health and Human Services.

ACTION: Request for public comments.

SUMMARY: The Family and Youth Services Bureau (FYSB) within the Administration on Children, Youth and Families (ACYF) is accepting mandatory formula grant applications and state plans from states and territories for the development of and implementation for Title V State Sexual Risk Avoidance Education (SRAE) Program. The Title V State SRAE Notice of Funding Opportunity (NOFO) sets forth the application requirements for recipients. This request is to extend Office of Management and Budget (OMB) approval of the request for information. No changes are proposed.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The Title V SRAE Program has mandatory, formula allotments for state and territories to apply. The application process is for states and territories to submit and for ACYF/FYSB to collect an application, state plan, and semi-annual performance progress reports.

Purpose and Use of the Information Collection: The application and state plans will offer information about the proposed state project and it will be used as the primary basis to determine whether or not the project meets the minimum requirements of the NOFO for the grant award. The Performance Progress Reports are collected semi-annually and will inform the monitoring of the grantees' program design, program evaluation, management improvement, service quality and compliance with agreed upon goals. ACYF/FYSB will use the information to assure effective service delivery for program participants. Finally, the data from this collection will be used to report outcomes and efficiencies and will provide valuable information to policy makers and key stakeholders in the development of program and research efforts.

Respondents: Thirty-eight states and nine Territories, to include, District of Columbia, Puerto Rico, Virgin Islands, Guam, American Samoa, Northern Mariana Islands, the Federated States of Micronesia, the Marshall Islands, and Palau.

Annual Burden Estimates
Instrument | Total number of respondents | Annual number of responses per respondent | Average burden hours per response | Annual burden hours
Applications | 47 | 1 | 24 | 1,128
State Plans | 47 | 1 | 40 | 1,880
Performance Progress Reports | 47 | 2 | 16 | 1,504

Estimated Total Annual Burden Hours: 4,512.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 510 of the Social Security Act (42 U.S.C. 710), as amended by Section 50502 of the Bipartisan Budget Act of 2018 (Pub. L. 115-123) and extended by Division CC, Title III, Section 303 of the Consolidated Appropriations Act, 2022 (Public Law 117-103).

Mary B. Jones,
ACF/OPRE Certifying Officer.

[FR Doc. 2023-15016 Filed 7-14-23; 8:45 am]

BILLING CODE 4184-83-P